DEPARTMENT OF HOMELAND SECURITY

[Docket No. DHS-2014-0047]

National Infrastructure Advisory Council

AGENCY: National Protection and Programs Directorate, DHS.

ACTION: Committee Management; Notice of an Open Federal Advisory Committee Meeting.

SUMMARY: The National Infrastructure Advisory Council will meet Friday, November 14, 2014, at the Navy League Building, 2300 Wilson Boulevard, Arlington, VA 22201. The meeting will be open to the public.

DATES: The National Infrastructure Advisory Council will meet on Friday, November 14, 2014, from 2:00 p.m. to 4:30 p.m. The meeting may close early if the committee has completed its business. For additional information, please consult the National Infrastructure Advisory Council Web site, www.dhs.gov/NIAC, or contact the National Infrastructure Advisory Council Secretariat by phone at (703) 235-2888 or by email at NIAC@hq.dhs.gov.

ADDRESSES: Navy League Building, 2300 Wilson Boulevard, Arlington, VA 22201. The meeting will be open to the public. Members of the public will register at the table at the door to the meeting room. For information on facilities or services for individuals with disabilities, or to request special assistance at the meeting, contact the person listed under “FOR FURTHER INFORMATION, CONTACT” below as soon as possible.

To facilitate public participation, we are inviting public comment on the issues to be considered by the Council as listed in the “Summary” section below. Comments must be submitted in writing no later than 12:00 p.m. on November 14, 2014, in order to be considered by the council in its meeting. The comments must be identified by “DHS-2014-0047,” and may be submitted by any one of the following methods:

• Federal eRulemaking Portal: www.regulations.gov. Follow the instructions for submitting written comments.

• Email: NIAC@hq.dhs.gov. Include the docket number in the subject line of the message.

• Fax: (703)603-5098.

• Mail: Nancy Wong, National Protection and Programs Directorate, Department of Homeland Security, 245 Murray Lane SW., Mail Stop 0607, Arlington, VA 20598-0607.

Instructions: All written submissions received must include the words “Department of Homeland Security” and the docket number for this action. Written comments received will be posted without alteration at www.regulations.gov, including any personal information provided.

Docket: For access to the docket to read background documents or comments received by the National Infrastructure Advisory Council, go to www.regulations.gov. Enter “NIAC” in the search line and the Web site will list all relevant documents for your review.

Members of the public will have an opportunity to provide oral comments on the Transportation Resilience Working Group study, on the Chief Executive Officer (CEO) Engagement Working Group study, and on the report on the National Plan for Critical Infrastructure Security and Resilience (CISR) Research and Development (R&D). We request that comments be limited to the issues and studies listed in the meeting agenda and previous National Infrastructure Advisory Council studies. All previous National Infrastructure Advisory Council studies can be located at www.dhs.gov/NIAC. Public comments may be submitted in writing or presented in person for the Council to consider. Comments received by Nancy Wong after 12:00 p.m. on November 14, 2014, will still be accepted and reviewed by the members, but not necessarily by the time of the meeting. In-person presentations will be limited to three minutes per speaker, with no more than 15 minutes for all speakers. Parties interested in making in-person comments should register on the Public Comment Registration list available at the meeting location no later than 15 minutes prior to the beginning of the meeting.

FOR FURTHER INFORMATION CONTACT: Nancy Wong, National Infrastructure Advisory Council Designated Federal Officer, Department of Homeland Security, (703) 235-2888.

SUPPLEMENTARY INFORMATION: Notice of this meeting is given under the Federal Advisory Committee Act, 5 U.S.C. Appendix. The National Infrastructure Advisory Council shall provide the President, through the Secretary of Homeland Security, with advice on the security and resilience of the Nation's critical infrastructure sectors.

The NIAC will meet to discuss issues relevant to critical infrastructure security and resilience as directed by the President. At this meeting, the council will receive an update presentation from the Transportation Resilience Working Group documenting their work to date on a study reviewing the Transportation Sector's resilience against potentially disruptive events. The council will also receive a Chief Executive Officer (CEO) Engagement Working Group update presentation on the development of recommendations for an Executive Summary of National Infrastructure Protection Plan (NIPP) 2013, targeted for use by Senior Executive Level/CEO critical infrastructure owners and operators and a communication strategy with this target community. Finally, the council will deliberate on its recommendations on priorities for the National Plan for CISR R&D. All three presentations will be posted no later than one week prior to the meeting on the council's public Web page— www.dhs.gov/NIAC.

Meeting Agenda

I. Opening of Meeting

II. Roll Call of Members

III. Opening Remarks and Introductions

IV. Approval of Meeting Minutes

V. Working Group Update on Transportation Resilience Study

VI. Working Group Update on CEO Engagement Study

VII. Working Group Presentation on CISR R&D Plan Recommendations

VIII. Public Comment: Topics Limited to Transportation Resilience Study; CEO Engagement Study; Recommendations for National Plan for CISR R&D; and Previously Issued National Infrastructure Advisory Council Studies and Recommendations

IX. Discussion and Deliberation on Recommendations for the National Plan for CISR R&D

X. Closing Remarks

Dated: October 21, 2014.
Nancy Wong,
Designated Federal Officer for the National Infrastructure Advisory Council.

[FR Doc. 2014-25404 Filed 10-27-14; 8:45 am]

BILLING CODE 9110-9P-P